ENVIRONMENTAL PROTECTION AGENCY

[EPA-HQ-OAR-2004-0016; FRL-10442-01-OMS]

Information Collection Request Submitted to OMB for Review and Approval; Comment Request; Part 71 Federal Operating Permit Program (Renewal)

AGENCY: Environmental Protection Agency (EPA).

ACTION: Notice.

SUMMARY: The Environmental Protection Agency (EPA) has submitted an information collection request (ICR), part 71 Federal Operating Permit Program (Renewal) (EPA ICR Number 1713.13, OMB Control Number 2060-0336) to the Office of Management and Budget (OMB) for review and approval in accordance with the Paperwork Reduction Act (PRA). This is a proposed extension of the ICR, which is currently approved through November 30, 2022. Public comments were previously requested via the Federal Register on January 7, 2022, during a 60-day comment period. This notice allows for an additional 30 days for public comments. A fuller description of the ICR is given below, including its estimated burden and cost to the public. An agency may not conduct or sponsor and a person is not required to respond to a collection of information unless it displays a currently valid OMB control number.

DATES: Comments must be submitted on or before December 29, 2022.

ADDRESSES: Submit your comments, referencing Docket ID No. EPA-HQ-OAR-2004-0016, online using https://www.regulations.gov (our preferred method), by email to a-and-r-docket@epa.gov, or by mail to: EPA Docket Center, Environmental Protection Agency, Mail Code 28221T, 1200 Pennsylvania Avenue NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Mayesha Choudhury, Air Quality Policy Division, Office of Air Quality Planning and Standards, Environmental Protection Agency, Research Triangle Park, NC; telephone number: (919) 541-5297; fax number: (919) 541-5509; email address: choudhury.mayesha@epa.gov.

SUPPLEMENTARY INFORMATION: Supporting documents, which explain in detail the information that the EPA will be collecting, are available in the public docket for this ICR. The docket can be viewed online at https://www.regulations.gov or in person at the EPA Docket Center, WJC West, Room 3334, 1301 Constitution Avenue NW, Washington, DC. The telephone number for the Docket Center is (202) 566-1744. The EPA's policy is that all comments received will be included in the public docket without change including any personal information provided, unless the comment includes profanity, threats, information claimed to be Confidential Business Information or other information whose disclosure is restricted by statute. For additional information about EPA's public docket, visit http://www.epa.gov/dockets.

Abstract: Title V of the Clean Air Act (Act) requires the EPA to operate a federal operating permits program in areas not subject to an approved state program. The EPA regulations setting forth the requirements for the federal (EPA) operating permit program are at 40 CFR part 71. The part 71 program is designed to be implemented primarily by the EPA in all areas where state and local agencies do not have jurisdiction, such as Indian country and offshore, beyond states' seaward boundaries. The EPA may also delegate authority to implement the part 71 program on its behalf to a state, local or tribal agency, if the agency requests delegation and makes certain showings regarding its authority and ability to implement the program. One such delegate agency for the part 71 program exists at present.

In order to receive an operating permit for a major or other source subject to the permitting program, the applicant must conduct the necessary research, perform the appropriate analyses, and prepare the permit application with documentation to demonstrate that its facility meets all applicable statutory and regulatory requirements. Specific activities and requirements are listed and described in the Supporting Statement for the part 71 ICR.

Under part 71, the permitting authority (the EPA or a delegate agency) reviews permit applications, provides for public review of proposed permits, issues permits based on consideration of all technical factors and public input, and reviews information submittals required of sources during the term of the permit. Under part 71, the EPA reviews certain actions and performs oversight of any delegate agency, consistent with the terms of a delegation agreement. Consequently, information prepared and submitted by sources is essential for sources to receive permits, and for federal and tribal permitting agencies to adequately review the permit applications and issue the permits, oversee implementation of the permits, and properly administer and manage the program.

Information that is collected is handled according to EPA's policies set forth in title 40, chapter 1, part 2, subpart B—Confidentiality of Business Information (see 40 CFR part 2). See also section 114(c) of the Act.

Form Numbers: The forms are 5900-01, 5900-02, 5900-03, 5900-04, 5900-05, 5900-06, 5900-79, 5900-80, 5900-81, 5900-82, 5900-83, 5900-84, 5900-85, and 5900-86.

Respondents/affected entities: Industrial plants (sources) and tribal permitting authorities.

Respondent's obligation to respond: mandatory (see 40 CFR part 71).

Estimated number of respondents: 89 (total); 88 industry sources and one tribal delegate permitting authority (the EPA serves as a permitting authority but is not a respondent).

Frequency of response: On occasion.

Total estimated burden: 23,845 hours (per year). Burden is defined at 5 CFR 1320.03(b).

Total estimated cost: $1,858,914 (per year). There are no annualized capital or operation & maintenance costs.

Changes in estimates: There is an increase of 138 hours per year for the estimated respondent burden compared with the ICR currently approved by OMB. This increase is due to updated estimates of the number of sources and permits subject to the part 71 program, rather than any change in federal mandates.

Courtney Kerwin,
Director, Regulatory Support Division.

[FR Doc. 2022-26027 Filed 11-28-22; 8:45 am]

BILLING CODE 6560-50-P